DEPARTMENT OF AGRICULTURE

Forest Service

Southern Arizona Resource Advisory Committee

AGENCY: Forest Service, USDA.

ACTION: Notice of meeting.

SUMMARY: The Southern Arizona Resource Advisory Committee will meet in Tucson, Arizona. The purpose of the meeting is for the committee members to discuss committee protocols, operating guidelines, and project proposal requirements.

DATES: The meeting will be held October 19, 2010, beginning at 10 a.m. to approximately 4 p.m.

ADDRESSES: The meeting will be held at the Tucson Interagency Fire Center, 2646 E. Commerce Center Place, Tucson, AZ 85706. Send written comments to Jennifer Ruyle, RAC Coordinator, Southern Arizona Resource Advisory Committee, do Coronado National Forest, 300 W. Congress, Tucson, Arizona 85701 or electronically to jruyle@fs.fed.us.

FOR FURTHER INFORMATION CONTACT: Jennifer Ruyle, Coronado National Forest, (520) 388-8351.

SUPPLEMENTARY INFORMATION: The meeting is open to the public and opportunity for public input will be provided. Committee discussion is limited to Forest Service staff and Committee members. However, persons who wish to bring Pub. L. 110-343 related matters to the attention of the Committee may file written statements with the Committee staff before or after the meeting.

Dated: September 22, 2010.
Melissa Shafiqullah,
Acting Deputy Forest Supervisor, Coronado National Forest.

[FR Doc. 2010-24331 Filed 9-28-10; 8:45 am]

BILLING CODE M